FEDERAL COMMUNICATIONS COMMISSION

[FRS 17187]

Hospital Robocall Protection Group; Announcement of Virtual Meeting

AGENCY: Federal Communications Commission.

ACTION: Notice.

SUMMARY: In accordance with the Federal Advisory Committee Act, this notice announces, and provides a preliminary agenda for, a virtual meeting of the Federal Communications Commission's (Commission) Hospital Robocall Protection Group (HRPG) via live internet link on the Commission's website.

DATES: Monday, December 14, 2020, beginning at 10:00 a.m. EST.

ADDRESSES: The HRPG meeting will be held via video conference call, with video and audio coverage available to the public at www.fcc.gov/live.

FOR FURTHER INFORMATION CONTACT: Donna Cyrus, Designated Federal Officer (DFO), at: (202) 418-7325 (voice) or email at: Donna.Cyrus@fcc.gov.

SUPPLEMENTARY INFORMATION: Proposed Agenda: The HRPG's mission is to issue best practices concerning (1) how voice service providers can better combat unlawful robocalls made to hospitals; (2) how hospitals can better protect themselves from such calls, including by using unlawful robocall mitigation techniques; and (3) how the Federal Government and State governments can help combat such calls. The agenda for the meeting will consist of a briefing by the three HRPG Working Groups on their respective robocall mitigation best practices recommendations, as required by the TRACED Act, and voting by the HRPG on those recommendations. This agenda may be modified at the discretion of the HRPG Chair and the DFO. The meeting will be conducted in a wholly electronic format.

The December 14th meeting will be open to members of the general public via live broadcast over the internet from the FCC Live web page at http://www.fcc.gov/live/. The public may also follow the meeting on Twitter @fcc or via the Commission's Facebook page at www.facebook.com/fcc. Members of the public may submit any questions that arise during the meeting to livequestions@fcc.gov.

Open captioning will be provided for the live stream. Other reasonable accommodations for persons with disabilities are available upon request. To request an accommodation, or for materials in accessible formats for persons with disabilities (Braille, large print, electronic files, audio format), send an email to fcc504@fcc.gov or call the Consumer and Governmental Affairs Bureau at (202) 418-0530 (voice), (202) 418-0432 (TTY). Such requests should include a detailed description of the accommodation needed. In addition, please include a way for the Commission to contact the requester if more information is needed to fulfill the request. Please provide at least five days' advance notice for your request; last-minute requests will be accepted but may not be possible to accommodate.

Federal Communications Commission.
Suzanne Singleton,
Chief, Disability Rights Office, Consumer and Governmental Affairs Bureau.

[FR Doc. 2020-23859 Filed 10-27-20; 8:45 am]

BILLING CODE 6712-01-P